DEPARTMENT OF LABOR

Employment and Training Administration

Comment Request for Information Collection for ETA 9162, Random Audit of EUC 2008 Claimants, Comment Request for Extension Without Change

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Random Audit of Claimants in the Emergency Unemployment Compensation Program of 2008 (EUC08), which expires November 30, 2012.

DATES: Written comments must be submitted to the office listed in the ADDRESSES section below on or before August 21, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The ETA 9162 report is intended to provide data describing random audits of the work search provision of Public Law 112-96 (see Section 2141(b)). Random audits are conducted to ensure that claimants in EUC08 are performing an appropriate work search as required by state and Federal law. States will audit, on a weekly basis, a cohort of EUC08 claimants of pre-defined size. Any EUC08 claimant that receives a week of payment is potentially subject to random audit of their work search documentation.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Random Audit of EUC 2008 Claimants.

OMB Number: 1205-0495.

Affected Public: State Workforce Agencies.

Form(s): ETA 9162.

Data collection activity | Number of respondents | Frequency | Total responses | Average time per response (hours) | Burden hours
Claimant burden in responding to audit | 475,650 | Onetime | 475,650 | 0.94 | 445,921.9
State burden in conducting audit | 53 | Onetime | 475,650 | 0.25 | 118,912.5
Record Keeping | 475,650 | Onetime | 475,650 | 0.25 | 118,912.5
Ongoing Reporting | 53 | Quarterly | 212 | 3.00 | 636
Total |  |  | 1,427,162 |  | 684,382.9

Comments submitted in response to this comment request will be summarized and/or included in the request for OMB approval of the ICR; they will also become a matter of public record.

Dated: Signed in Washington, DC, this 15th day of June, 2012.
Jane Oates,
Assistant Secretary for Employment and Training, Labor.

[FR Doc. 2012-15213 Filed 6-21-12; 8:45 am]

BILLING CODE 4510-FW-P